DEPARTMENT OF VETERANS AFFAIRS

Privacy Act of 1974; Report of Matching Program

AGENCY: Department of Veterans Affairs.

ACTION: Notice.

SUMMARY: The Department of Veterans Affairs (VA) provides notice that it intends to conduct a recurring computer-matching program matching Social Security Administration (SSA) income data from the Earnings Recording and Self-Employment Income System (also referred to as the Master Earnings File (MEF)) with VA pension, compensation, and parents' dependency and indemnity compensation records. The purpose of this match is to identify applicants and beneficiaries who have applied for or who are receiving VA benefits and received earned income, and to adjust or terminate VA benefits, if appropriate.

DATES: The match will start no sooner than 30 days after publication of this notice in the Federal Register (FR), or 40 days after copies of this Notice and the agreement of the parties are submitted to Congress and the Office of Management and Budget (OMB), whichever is later, and end not more than 18 months after the agreement is properly implemented by the parties. The involved agencies' Data Integrity Boards (DIB) may extend this match for 12 months provided the agencies certify to their DIBs, within three months of the ending date of the original match, that the matching program will be conducted without change and that the matching program has been conducted in compliance with the original matching program.

ADDRESSES: Written comments may be submitted through www.Regulations.gov; by mail or hand-delivery to the Director, Regulations Management (02REG), Department of Veterans Affairs, 810 Vermont Ave. NW., Room 1068, Washington, DC 20420; or by fax to (202) 273-9026. Copies of comments received will be available for public inspection in the Office of Regulation Policy and Management, Room 1063B, between the hours of 8:00 a.m. and 4:30 p.m., Monday through Friday (except holidays). Please call (202) 461-4902 for an appointment. In addition, during the comment period, comments may be viewed online through the Federal Docket Management System (FDMS) at www.Regulations.gov.

FOR FURTHER INFORMATION CONTACT: Jennifer Copeland, Pension Analyst, Pension and Fiduciary Service (21PF), Department of Veterans Affairs, 810 Vermont Ave. NW., Washington, DC 20420, (202) 632-8863.

SUPPLEMENTARY INFORMATION: VA plans to match records of applicants and beneficiaries, including veterans and survivors, and their eligible dependent(s), who have applied for or who are receiving needs-based VA benefits, with earned income information maintained by SSA. VA will also match records of veterans, who have applied for or who are receiving disability compensation at the 100 percent rate based on unemployability, with SSA earned income information. VA will use this information to verify income information submitted by beneficiaries and adjust VA benefit payments as prescribed by law. The proposed matching program will enable VA to ensure accurate reporting of income and employment status.

The legal authority to conduct this match is 38 U.S.C. 5106, which requires any Federal department or agency to provide VA such information as VA requests for the purposes of determining eligibility for benefits or verifying other information concerning to payment of benefits. In addition, 26 U.S.C. 6103(l)(7) authorizes the disclosure of tax return information to VA.

VA records involved in the match are in “Compensation, Pension, Education, and Vocational Rehabilitation and Employment Records—VA (58VA21/22/28),” a system of records which was first published at 41 FR 9294 (March 3, 1976), amended and republished in its entirety at 77 FR 42593 (July 19, 2012). The SSA records are from the system of records identified as the Earnings Recording and Self-Employment Income System (MEF), 60-0059, published at 71 FR 1819 (January 11, 2006).

In accordance with the Privacy Act, 5 U.S.C. 552a(o)(2) and (r), copies of the agreement are being sent to both Houses of Congress and to OMB. This notice is provided in accordance with provisions of Privacy Act of 1974 as amended by Public Law 100-503.

Signing Authority

The Secretary of Veterans Affairs, or designee, approved this document and authorized the undersigned to sign and submit the document to the Office of the Federal Register for publication electronically as an official document of the Department of Veterans Affairs. Robert L. Nabors II, Chief of Staff, approved this document on August 27, 2015, for publication.

Dated: September 1, 2015.
Kathleen M. Manwell,
Program Analyst, VA Privacy Service, Office of Privacy and Records Management, Department of Veterans Affairs.

[FR Doc. 2015-22622 Filed 9-8-15; 8:45 am]

BILLING CODE 8320-01-P